DEPARTMENT OF VETERANS AFFAIRS

[Docket No. VA-2025-VACO-0001]

Privacy Act of 1974; System of Records

AGENCY: Office of Inspector General, Department of Veterans Affairs.

ACTION: Rescindment of a system of records.

SUMMARY: As required by the Privacy Act of 1974, notice is hereby given that the Department of Veterans Affairs (VA) is rescinding the system of records (SOR) known as “The Office of Inspector General Management Information System (MIS)—VA” (71VA53), which consists of records and information about the Office of Inspector General (OIG) employees for various management and human resources objectives. DATES: Comments on this rescinded SOR must be received no later than 30 days after publication in the Federal Register. If no public comment is received during the period allowed for comment or unless otherwise published in the Federal Register by VA, the rescindment will become effective a minimum of 30 days after the date of publication in the Federal Register. If VA receives public comments, VA shall review the comments to determine whether any changes to the notice are necessary.

ADDRESSES: Comments may be submitted through www.regulations.gov under docket number VA-2025-VACO-0001 or mailed to VA Privacy Service (005X6F), 810 Vermont Avenue NW, Washington, DC 20420. Comments must indicate that they are submitted in response to the SOR known as “The Office of Inspector General Management Information System (MIS)—VA” (71VA53). Comments received will be available at www.regulations.gov for public viewing, inspection, or copies.

FOR FURTHER INFORMATION CONTACT: Chris Wilbur, Counselor to the Inspector General (50C), Office of Inspector General, Chris.Wilbur@va.gov.

SUPPLEMENTARY INFORMATION: This publication is in accordance with the Privacy Act requirement that agencies publish their amended SOR in the Federal Register when there is revision, change, or addition. VA OIG has reviewed its SOR notices and has determined its record system, known as “The Office of Inspector General Management Information System (MIS)—VA” (71VA53), should be rescinded to reflect evolving technology and procedures, to conform to current practice, and to reflect current authorities. The SOR is being rescinded because the records are maintained as part of Governmentwide SORs, including Office of Personnel Management (OPM) GOVT-1- General Personnel Records, and OPM GOVT-2-Employee Performance.

Signing Authority

The Senior Agency Official for Privacy, or designee, approved this document and authorized the undersigned to sign and submit the document to the Office of the Federal Register for publication electronically as an official document of the Department of Veterans Affairs. Eddie Pool, Deputy Chief Information Officer, Connectivity and Collaboration Services, Performing the Delegable Duties of the Assistant Secretary for Information and Technology and Chief Information Officer, approved this document on November 14, 2025, for publication.

Dated: January 8, 2026.
Saurav Devkota,
Government Information Specialist, VA Privacy Service, Office of Compliance, Risk and Remediation, Office of Information and Technology, Department of Veterans Affairs.

SYSTEM NAME AND NUMBER:

The Office of Inspector General Management Information System (MIS)—VA (71VA53).

HISTORY:

73 FR 56633 (Sep. 29, 2008); 84 FR 16138 (Apr. 17, 2019).

[FR Doc. 2026-00725 Filed 1-14-26; 8:45 am]

BILLING CODE 8320-01-P